DEPARTMENT OF DEFENSE

Department of the Army; Corps of Engineers

Review and Comments From the Interested Public on Draft Programmatic Agreement on the Effect on Historic Properties Due to Project Operations on the Federal Columbia River Power System

AGENCY: Department of the Army, U.S. Army Corps of Engineers, DoD.

ACTION: Notice.

SUMMARY: The U.S. Army Corps of Engineers, in cooperation with Bonneville Power Administration and the Bureau of Reclamation (together referred to as “Lead Federal Agencies”), has released a draft of the Systemwide Programmatic Agreement (PA) under the National Historic Preservation Act. 16 U.S.C. 470 et seq.; 36 CFR 800.14(b). The Lead Federal Agencies (Corps, BPA, and Reclamation) have released the draft PA for the management of historic properties affected by the multipurpose operations of fourteen dam/reservoir Projects of the Federal Columbia River Power System (Libby, Albeni Falls, Chief Joseph, McNary, John Day, the Dalles, Bonneville, Dworshak, Lower Granite, Lower Monumental, Little Goose, Ice Harbor, Grand Coulee, and Hungry Horse) on the Columbia or Snake rivers in the states of Oregon, Washington, Idaho, and Montana pursuant to section 106 of the National Historic Preservation Act (NHPA).

DATES: Comments are due on Friday, January 19, 2006.

ADDRESSES: Comments may be mailed to Tribal Affairs—DKT-7, Bonneville Power Administration; P.O. Box 14428; Portland, OR 97293-5884. They may also be faxed to (503) 230-5884 or e-mailed to comment@bpa.gov. Please include with your comments the title “Draft FCRPS Systemwide PA”.

FOR FURTHER INFORMATION CONTACT: Kimberly St. Hilaire, BPA Cultural Resource Manager, (503) 230-5361; Lynne MacDonald, Bureau of Reclamation Regional Archeologist, (208) 378-5316; or, Gail Celmer, Corps Regional Archeologist, (503) 808-4762.

SUPPLEMENTARY INFORMATION: This proposed agreement has been under development for over 10 years following commitments made by the agencies in Records of Decision in 1997 following the analysis of the System Operation Review Environmental Impact Statement. Agencies found that the Project operations have the potential to adversely affect and may continue to threaten historic properties eligible for the National Register of Historic Places. The Lead Federal Agencies developed this draft of the PA in cooperation and consultation with tribes, State and tribal historic preservation officers, the Advisory Council on Historic Preservation, Federal land managing agencies, and other interested parties. Comments are now being sought on the draft PA which is available at http://efw.bpa.gov/environmental_services/culturalresources.aspx. The Lead Federal Agencies would appreciate any comments from interested members of the public.

Dated: December 5, 2006.
Randall L. Fofi,
Deputy Division Commander.

[FR Doc. 06-9728 Filed 12-14-06; 8:45 am]

BILLING CODE 3710-AR-M